DEPARTMENT OF VETERANS AFFAIRS

Privacy Act of 1974

AGENCY: Department of Veterans Affairs (VA).

ACTION: Notice of new system of records—VA VetBiz Assistance Program Pages—VA.

SUMMARY: The Privacy Act of 1974, 5 U.S.C. 522a(e), requires that all agencies publish in the Federal Register a notice of the existence and character of their systems of records. Notice is hereby given that the Department of Veterans Affairs (VA) is establishing a new system of records entitled “VA VetBiz Assistance Program Pages—VA” (132VA00VE).

DATES: Comments on the establishment of this new system of records must be received no later than November 29, 2004. If no public comment is received, the new system will become effective November 29, 2004.

ADDRESSES: Written comments concerning the proposed new system of records may be submitted by: mail or hand-delivery to Director, Regulations Management (00REG1), Department of Veterans Affairs, 810 Vermont Avenue, NW., Room 1068, Washington, DC 20420; fax to (202) 273-9026; or e-mail to VAregulations@mail.va.gov. All comments received will be available for public inspection in the Office of Regulation Policy and Management, Room 1063B, between the hours of 8 a.m. and 4:30 p.m., Monday through Friday (except holidays). Please call (202) 273-9515 for an appointment.

FOR FURTHER INFORMATION CONTACT: Ms. Gail Wegner (00VE), Department of Veterans Affairs, 810 Vermont Avenue, NW., Washington, DC 20420, telephone number (202) 303-3260.

SUPPLEMENTARY INFORMATION: The Center for Veterans Enterprise (CVE) provides numerous services for veterans and service-disabled veterans who seek to open or expand a business. The CVE staff coordinates the tasks required of the U.S. Department of Veterans Affairs by several Federal laws, including:

• Pub. L. 108-183 (December 2003), the Veterans Benefits Act of 2003, Sections 301, 305, 308.

• Pub. L. 106-554 (December 2000), Sections 803 and 808.

• Pub. L. 106-50 (August 1999), the Veterans Entrepreneurship and Small Business Development Act of 1999.

• Pub. L. 105-135 (December 1997), Title VII, Service Disabled Veterans Program.

• Pub. L. 93-237 (January 1974), “Special Consideration for Veterans”.

Public Law 106-50, Section 302, Entrepreneurial Assistance, subsection (5) requires VA to support the “establishment of an information clearinghouse to collect and distribute information, including electronic means, on the assistance programs of Federal, state, and local governments, and of the private sector, including information on office locations, key personnel, telephone numbers, mailing and e-mail addresses, and contracting and sub-contracting opportunities.”

The parts of the Veterans Benefits Act of 2003 (Public Law 108-183) that pertain to veteran entrepreneurship are contained in Title III—Education Benefits, Employment Provisions, and Related Matters. They are as follows:

○ Section 301—Expand the Montgomery GI Bill program by authorizing educational assistance for on-job training in certain self-employment training programs.

○ Section 305—Authorize the use of VA education benefits to pay for non-degree/non-credit entrepreneurship courses at approved institutions:

• Small Business Development Centers, and

• National Veterans Business Development Corporation (also known as Veterans Corporation).

○ Section 308—Furnish Federal agencies discretionary authority to:

• Restrict certain contracts to disabled veteran-owned small businesses if at least two such concerns are qualified to bid on the contract, and

• Create “sole-source” contracts for disabled veteran-owned small businesses—up to $5 million for manufacturing contract awards and up to $3 million for non-manufacturing contract awards.

As such, a Web-based application is needed to allow Governmental and support sector organizations to “register” their services. This clearinghouse will allow any user to search for business support services at the Federal, State, and local government levels and private providers in their respective category of business development, management, financial, technical or procurement assistance. The site must allow support organizations to update their business information as well as give the Department the ability to upload data from other sources in an effort to populate the proposed database. Contact information must also be kept and a means to extract this information to satisfy the Department's need to send out information is also required.

This new system of records, known as the VA VetBiz Assistance Program Pages (APP)—VA, will be used to maintain and access an automated database containing the information on veteran-owned businesses resources set forth in the law (section 302, paragraph (5) and section 604, paragraph (b)). Because some information may be retrieved by the name or other personal identifiers of individuals acting in an entrepreneurial capacity, such as a sole proprietor of a small business, VA is adopting this system of records.

The information in this system will be maintained in electronic form. The information in these records will be available to government agencies, companies, and the general public via the Internet.

A “Report of Intention to Publish a Federal Register Notice of a New System of Records” and an advance copy of the new system notice have been sent to the appropriate Congressional Committees, and the Office of Management and Budget (OMB), as required by provisions of the Privacy Act, 5 U.S.C. 522a, and guidelines issued by OMB, 61 FR 6428 (Feb. 20, 1996).

Approved: October 8, 2004.
Anthony J. Principi,
Secretary of Veterans Affairs.

132VA00VE

SYSTEM NAME:

VA VetBiz Assistance Program Pages—VA (132VA00VE).

SYSTEM LOCATION:

Records are maintained at the Center for Veterans Enterprise's office in VA Headquarters, Washington, DC. VA's Information Services Center, 1335 East West Highway, Silver Spring, Maryland 20910, maintains the computerized database and Web site.

CATEGORIES OF INDIVIDUALS COVERED BY THE SYSTEM:

The system of records will cover programs of Federal, State, and local governments, and private sector organizations and companies offering business or business assistance services to veteran entrepreneurs that wish to be a part of the information clearinghouse.

CATEGORIES OF RECORDS IN THE SYSTEM:

The records will contain data on the assistance programs of Federal, state, and local governments, and of the private sector, including information on office locations, key personnel, telephone numbers, mailing and e-mail addresses, and contracting and subcontracting opportunities available to veteran entrepreneurs. The data will come from both governments and private sector organizations who have contacted the Center for Veterans Enterprise, registered their products or services online in the database, or have been extracted from e-government databases to which the companies have voluntarily submitted the data. The records may include business addresses and other contact information, information concerning products or services offered, and information pertaining to the business, such as federal contracts, and certifications.

AUTHORITY FOR MAINTENANCE OF THE SYSTEM:

Public Law 106-50, as amended.

PURPOSE(S):

1. VA personnel will access the system to find resources available to veteran entrepreneurs and to register those resources that they provide. They may also utilize the database to counsel and assist veteran entrepreneurs in starting a small business or expanding an existing small business.

2. The Center for Veterans Enterprise will use the records and reports derived from the database to manage their responsibilities under the Veterans Entrepreneurship and Small Business Development Act of 1999.

ROUTINE USES OF RECORDS MAINTAINED IN THE SYSTEM INCLUDING CATEGORIES OF USERS AND THE PURPOSES OF SUCH USES:

1. Federal, State, and local government personnel will access the system to find resources available to veteran entrepreneurs and to register those resources that they provide. They may also utilize the database to counsel and assist veteran entrepreneurs in starting a small business or expanding an existing small business.

2. The general public, including private sector companies and corporate entities, will access the system, via Internet, to review the information, register those resources that they provide, and to locate potential resources for veteran entrepreneurs.

COMPATIBILITY OF THE PROPOSED ROUTINE USES:

The Privacy Act permits disclosure of information about individuals without their consent for a routine use when the information will be used for a purpose that is compatible with the purpose for which the information is collected. In all of the routine use disclosures described above, the recipient of the information will use the information in connection with a matter relating to one of VA's programs.

POLICIES AND PRACTICES FOR STORING, RETRIEVING, ACCESSING, RETAINING, AND DISPOSING OF RECORDS IN THE SYSTEM:

STORAGE:

The VetBiz APP will be stored in an automated, computerized database. The system will operate on servers located at VA's Information Services Center, 1335 East West Highway, Silver Spring, Maryland 20910. Data backups will reside on appropriate media according to normal system backup plans. The system will be managed by the Center for Veterans Enterprise in VA Headquarters, Washington, DC.

RETRIEVABILITY:

Automated records may be retrieved by:

1. Organization Name.

2. Contact Name.

3. E-mail Address.

4. Web Address.

5. Area Code and Phone Number.

6. Zip Code.

7. County Code (NaCO).

8. State(s).

9. Type of Organization: Government (Federal; State; County; Municipal; Other); Nongovernmental Organization; Commercial.

10. Type of Assistance: (paperwork packaging; grants/loans; procurement assistance; management/technical assistance; mentoring/incubator; contract opportunities; other).

11. Service Area Limits (if any).

12. Service limited to Veterans.

13. Fees.

14. Organization Funding Limits: (none; term—funding expires on a specific date).

15. Year Established.

16. Full-time/part-time.

17. Days and Hours of Service.

18. Other Professional Staff Available.

SAFEGUARDS:

Read access to the system is via Internet access. VA Information Service Center and CVE personnel will have access to the system via VA Intranet and local connections for management and maintenance purposes and tasks.

RETENTION AND DISPOSAL:

Records will be maintained and disposed of in accordance with the records disposal authority approved by the Archivist of the United States, the National Archives and Records Administration, and published in Agency Records Control Schedule No. 20, Electronic Records.

SYSTEM MANAGER:

Deputy Director, Center for Veterans Enterprise (00VE), 810 Vermont Avenue, NW., Washington, DC 20420.

NOTIFICATION PROCEDURES:

Individuals wishing to inquire whether this system of records contains information about themselves should contact the Deputy Director, Center for Veterans Enterprise (00VE), 810 Vermont Avenue, NW., Washington, DC 20420.

RECORD ACCESS PROCEDURE:

Individuals seeking access to records about themselves contained in this system of records may access the records via the Internet, or submit a written request to the system manager.

CONTESTING RECORD PROCEDURES:

An individual who wishes to contest records maintained under his or her name or other personal identifier may write or call the system manager. VA's rules for accessing records and contesting contents and appealing initial agency determinations are published in regulations set forth in the Code of Federal Regulations. See 38 CFR 1.577, 1.578.

RECORD SOURCE CATEGORIES:

The information in this system of records is obtained from the following sources:

a. Information voluntarily submitted by Federal, State, and local governments;

b. Information voluntarily submitted by the private sector; and

c. Information extracted from other business and resource databases.

[FR Doc. 04-24078 Filed 10-27-04; 8:45 am]

BILLING CODE 8320-01-P